ENVIRONMENTAL PROTECTION AGENCY

[EPA-HQ-OAR-2013-0048; FRL 9532-5]

Information Collection Request Submitted to OMB for Review and Approval; Comment Request; Information Requirements for Importation of Nonconforming Vehicles (Renewal)

AGENCY: Environmental Protection Agency (EPA).

ACTION: Notice.

SUMMARY: The Environmental Protection Agency has submitted an information collection request (ICR), Information Requirements for Importation of Nonconforming Vehicles (EPA ICR No.0010.13, OMB Control No. 2060-0095) to the Office of Management and Budget (OMB) for review and approval in accordance with the Paperwork Reduction Act (44 U.S.C. 3501 et seq.). This is a proposed extension of the ICR, which is currently approved through September 30, 2013. Public comments were previously requested via the Federal Register (78 FR 15010) on March 8, 2013 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before October 21, 2013.

ADDRESSES: Submit your comments, referencing Docket ID Number EPA-HQ-OAR-2013-0048 to (1) EPA online using www.regulations.gov (our preferred method), or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Lynn Sohacki, Compliance Division, Office of Transportation and Air Quality, U.S. Environmental Protection Agency, 2000 Traverwood, Ann Arbor, Michigan 48105; telephone number: 734-214-4851; fax number 734-214-4869; email address: sohacki.lynn@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: Importers into the U.S. of light duty vehicles, light duty trucks and on-road motorcycles or the corresponding engines are required to report and keep records regarding the imports. The collection of this information is mandatory to insure compliance with Federal emissions requirements. Joint EPA and U.S. Customs Service regulations at 40 CFR 85.1501 et seq., 19 CFR 12.73 and 19 CFR 12.74, promulgated under the authority of Clean Air Act sections 203 and 208, give authority for the collection of this information. The information is used by program personnel to ensure that all Federal emissions requirements are met and by State regulatory agencies, businesses and individuals to verify whether vehicles are in compliance. Any information submitted to the Agency for which a claim of confidentiality is made is safeguarded according to policies set forth in the Code of Federal Regulations, title 40, chapter 1, part 2, subpart B— Confidentiality of Business Information, and the public is not permitted access to information containing personal or organizational identifiers.

Form Numbers: EPA Form 3520-1, EPA Form 3520-8.

Respondents/affected entities: Importers (including Independent Commercial Importers) into the U.S. of light duty vehicles, light duty trucks and on-road motorcycles or the corresponding engines.

Respondent's obligation to respond: Required to obtain or retain a benefit (40 CFR 85.1501 et seq., 19 CFR 12.73 and 19 CFR 12.74).

Estimated number of respondents: 10,000 (total).

Frequency of response: Occasionally.

Total estimated burden: 8,040 hours (per year). Burden is defined at 5 CFR 1320.03(b).

Total estimated cost: $460,412 (per year), which includes $141,493 annualized capital and operation & maintenance costs.

Changes in Estimates: There is a decrease of 1,310 hours in the total estimated respondent burden compared with the ICR currently approved by OMB. This decrease is due to a decrease in the number of responses expected.

John Moses,
Director, Collection Strategies Division.

[FR Doc. 2013-22741 Filed 9-18-13; 8:45 am]

BILLING CODE 6560-50-P